COMMODITY FUTURES TRADING COMMISSION

Sunshine Act Meetings

TIME AND DATE: 1:00 p.m., Thursday, July 11, 2019.

PLACE: Three Lafayette Centre, 1155 21st Street NW, Washington, DC, 9th Floor Commission Conference Room.

STATUS: Closed.

MATTERS TO BE CONSIDERED: The following matters will be considered at this meeting:

• Enforcement matters; and

• Exempt swap execution facility (SEF) determination.

In the event that the time, date, or location of this meeting changes, an announcement of the change, along with the new time, date, and/or place of the meeting will be posted on the Commission's website at https://www.cftc.gov.

CONTACT PERSON FOR MORE INFORMATION: Christopher Kirkpatrick, 202-418-5964.

Authority: 5 U.S.C. 552(b).

Dated: July 1, 2019.
Christopher Kirkpatrick,
Secretary of the Commission.

[FR Doc. 2019-14395 Filed 7-1-19; 4:15 pm]

BILLING CODE 6351-01-P